DEPARTMENT OF THE INTERIOR

Bureau of Land Management

[LLIDT03000-L14300000.EU0000; IDI-35577]

Notice of Intent To Prepare an Environmental Assessment for the Disposal of Public Lands in Jerome County, Idaho, and Possible Land Use Plan Amendment

AGENCY: Bureau of Land Management, Interior.

ACTION: Notice of Intent.

SUMMARY: In compliance with the National Environmental Policy Act of 1969, as amended, and the Federal Land Policy and Management Act of 1976 (FLPMA), as amended, the Bureau of Land Management (BLM), Shoshone Field Office, Shoshone, Idaho, intends to prepare an Environmental Assessment (EA) and a possible amendment to the 1985 Monument Resource Management Plan (RMP), Shoshone, Idaho, to identify a specific 7.45 acre parcel of land for potential direct sale. By this notice the BLM is announcing the beginning of the scoping process to solicit public comments and identify issues.

DATES: This notice initiates the public scoping process for the EA. Comments on issues may be submitted in writing until June 17, 2011. The date(s) and location(s) of any scoping meetings will be announced at least 15 days in advance through local media. In order to be included in the EA, all comments must be received prior to the close of the scoping period or 15 days after the last public meeting, whichever is later. The BLM will provide additional opportunities for public participation upon publication of the EA.

ADDRESSES: Comments should be addressed to Ruth A. Miller, BLM Shoshone Field Manager, 400 West F Street, Shoshone, Idaho 83352.

FOR FURTHER INFORMATION CONTACT: For further information and/or to have your name added to our mailing list, contact Lisa Claxton, Realty Specialist, BLM Shoshone Field Office, telephone (208) 736-2360; address 400 West F Street, Shoshone, Idaho 83352. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The adjacent private landowners submitted a proposal to the BLM to acquire the following-described land by direct sale, under the authority of Section 203 of FLPMA (43 U.S.C. 1713):

Boise Meridian

T. 10 S., R. 19 E.,

sec. 25, lot 10.

The area described contains 7.45 acres in Jerome County.

The Monument RMP identifies these lands as available for disposal, although not through sale. The proposed amendment would allow for disposal via sale. On April 29, 2010, the above-described land was segregated from appropriation under the public land laws, including the mining laws, in anticipation of the proposed sale and pending completion of the land use planning process. The segregative effect will terminate upon issuance of a patent, publication in the Federal Register of a termination of the segregation, or on April 29, 2012, unless extended by the BLM State Director in accordance with 43 CFR 2711.1-2(d) prior to the termination date. This notice initiates the public scoping process to identify specific issues related to the proposed amendment and associated environmental analysis.

Any protests regarding the proposed land use plan amendment will be reviewed by the BLM Director, who may sustain, vacate, or modify this land use planning action in whole or in part. In the absence of timely filed protests, this planning decision will become the final determination of the Department of the Interior.

This plan amendment will be limited to an analysis of whether the subject property meets the Section 203 sales criteria of FLPMA. The planning process begins with the publication of this notice in the Federal Register. The BLM will follow the Bureau's planning regulations (43 CFR 1600) in processing this plan amendment.

Before including your address, phone number, e-mail address, or other personal identifying information in your comment, be advised that your entire comment—including your personal identifying information—may be made publicly available at any time. While you can ask us in your comment to withhold from public review your personal indentifying information, we cannot guarantee that we will be able to do so.

Authority: 40 CFR 1501.7 and 43 CFR 2711.1-2(a)(c).

Ruth A. Miller,
Shoshone Field Manager.

[FR Doc. 2011-12197 Filed 5-17-11; 8:45 am]

BILLING CODE 4310-GG-P